DEPARTMENT OF LABOR

Wage and Hour Division

Agency Information Collection Activities; Announcement of OMB Approvals

AGENCY: Wage and Hour Division, Department of Labor.

ACTION: Notice.

SUMMARY: The Department of Labor, Wage and Hour Division announces that the Office of Management and Budget (OMB) has approved certain collections of information listed in the SUPPLEMENTARY INFORMATION below, following the Wage and Hour Division's submission of requests for approvals under the Paperwork Reduction Act of 1995 (PRA). This notice describes the information collections that have been approved or re-approved, the corresponding OMB Control Numbers, and their current expiration dates.

FOR FURTHER INFORMATION CONTACT: Robert Waterman, Compliance Specialist, Division of Regulations, Legislation, and Interpretation, Wage and Hour, U.S. Department of Labor, Room S-3502, 200 Constitution Avenue NW., Washington, DC 20210; telephone: (202) 693-0406 (this is not a toll-free number). Copies of this notice may be obtained in alternative formats (Large Print, Braille, Audio Tape, or Disc), upon request, by calling (202) 693-0023 (not a toll-free number). TTY/TTD callers may dial toll-free (877) 889-5627 to obtain information or request materials in alternative formats.

SUPPLEMENTARY INFORMATION: The PRA and its implementing regulations require Federal agencies to display OMB control numbers and inform respondents of their legal significance after OMB has approved an agency's information collections. In accordance with those requirements, WHD hereby notifies the public that the following information collections have been re-approved by OMB following WHD's submission of an information collection request (ICR) for approval or extension of a prior approval:

• OMB Control No. 1235-0001, Special Employment Under the Fair Labor Standards Act. The expiration date for this information collection is December 31, 2019.

• OMB Control No. 1235-0002, Disclosures to Workers Under the Migrant and Seasonal Agricultural Worker Protection Act. The expiration date for this information collection is June 30, 2017.

• OMB Control No. 1235-0003, Family and Medical Leave Act of 1993, As Amended. The expiration date for this information collection is May 31, 2018.

• OMB Control No. 1235-0005, Application of the Employee Polygraph Protection Act. The expiration date for this information collection is October 31, 2017.

• OMB Control No. 1235-0006, Housing Occupancy Certificate—Migrant and Seasonal Agricultural Worker Protection Act. The expiration date for this information collection is September 30, 2017.

• OMB Control No. 1235-0007, Labor Standards for Federal Service Contracts. The expiration date for this information collection is December 31, 2019.

• OMB Control No. 1235-0008, Davis-Bacon Certified Payroll. The expiration date for this information collection is February 28, 2018.

• OMB Control No. 1235-0013, Requirements of a Bona Fide Thrift or Savings Plan (29 CFR part 547) and Requirements of a Bona Fide Profit-Sharing Plan or Trust (29 CFR part 549). The expiration date for this information collection is February 28, 2018.

• OMB Control No. 1235-0015, Report of Construction Contractor's Wage Rates. The expiration date for this information collection is June 30, 2017.

• OMB Control No. 1235-0016, Application for a Farm Labor Contractor or Farm Labor Contractor Employee Certificate of Registration. The expiration date for this information collection is November 30, 2018.

• OMB Control No. 1235-0018, Records to be kept by Employers—Fair Labor Standards Act. The expiration date for this information collection is December 31, 2019.

• OMB Control No. 1235-0021, Employment Information Form. The expiration date for this information collection is December 31, 2019.

• OMB Control No. 1235-0023, Requests to Approve Conformed Wage Classifications and Unconventional Fringe Benefit Plans Under the Davis-Bacon and Related Acts and Contract Work Hours and Safety Standards Act. The expiration date for this information collection is August 31, 2019.

• OMB Control No. 1235-0024, Work-Study Program of the Child Labor Regulations. The expiration date for this information collection is June 30, 2019.

• OMB Control No. 1235-0025, Nondisplacement of Qualified Workers Under Service Contracts, Executive Order 13495. The expiration date for this information collection is January 31, 2018.

• OMB Control No. 1235-0029, Government Contractor Paid Sick Leave. The expiration date for this information collection is December 31, 2019.

Dated: June 1, 2017.
Melissa Smith,
Director, Division of Regulation, Legislation, and Interpretation.

[FR Doc. 2017-12231 Filed 6-12-17; 8:45 am]

BILLING CODE 4510-27-P